DEPARTMENT OF ENERGY

Federal Energy Regulatory Commission

Combined Notice of Filings

Take notice that the Commission has received the following Natural Gas Pipeline Rate and Refund Report filings:

Filings Instituting Proceedings

Docket Numbers: RP12-276-000.

Applicants: Gulf Crossing Pipeline Company LLC.

Description: Gulf Crossing Pipeline Company LLC submits tariff filing per 154.204: Antero 2 to Tenaska 243 Capacity Release Negotiated Rate Agreement Filing to be effective 1/1/2012.

Filed Date: 1/3/12.

Accession Number: 20120103-5084.

Comments Due: 5 p.m. ET 1/17/12.

Docket Numbers: RP12-277-000.

Applicants: Gulf Crossing Pipeline Company LLC.

Description: Gulf Crossing Pipeline Company LLC submits tariff filing per 154.204: Antero 3 to Tenaska 244 Capacity Release Negotiated Rate Agreement Filing to be effective 1/1/2012.

Filed Date: 1/3/12.

Accession Number: 20120103-5087.

Comments Due: 5 p.m. ET 1/17/12.

Docket Numbers: RP12-278-000.

Applicants: Gulf South Pipeline Company, LP.

Description: Gulf South Pipeline Company, LP submits tariff filing per 154.204: BG Energy 39431 Negotiated Rate Agreement Filing to be effective 1/1/2012.

Filed Date: 1/3/12.

Accession Number: 20120103-5128.

Comments Due: 5 p.m. ET 1/17/12.

Docket Numbers: RP12-279-000.

Applicants: Gulf South Pipeline Company, LP.

Description: Gulf South Pipeline Company, LP submits tariff filing per 154.204: HK 37367 to Sequent 39472 Capacity Release Negotiated Rate Agreement Filing to be effective 1/1/2012.

Filed Date: 1/3/12.

Accession Number: 20120103-5129.

Comments Due: 5 p.m. ET 1/17/12.

Docket Numbers: RP12-280-000.

Applicants: Gulf South Pipeline Company, LP.

Description: Gulf South Pipeline Company, LP submits tariff filing per 154.204: HK 37731 to Sequent 39473 Capacity Release Negotiated Rate Agreement Filing to be effective 1/1/2012.

Filed Date: 1/3/12.

Accession Number: 20120103-5130.

Comments Due: 5 p.m. ET 1/17/12.

Docket Numbers: RP12-281-000.

Applicants: Gulf South Pipeline Company, LP.

Description: Gulf South Pipeline Company, LP submits tariff filing per 154.204: HK 37731 to Spark Energy Gas 39466 Capacity Release Negotiated Rate Agreement Filing to be effective 1/1/2012.

Filed Date: 1/3/12.

Accession Number: 20120103-5131.

Comments Due: 5 p.m. ET 1/17/12.

Docket Numbers: RP12-282-000.

Applicants: Gulf South Pipeline Company, LP.

Description: Gulf South Pipeline Company, LP submits tariff filing per 154.204: HK 37731 to Texla 39468 Capacity Release Negotiated Rate Agreement Filing to be effective 1/1/2012.

Filed Date: 1/3/12.

Accession Number: 20120103-5132.

Comments Due: 5 p.m. ET 1/17/12.

Docket Numbers: RP12-283-000.

Applicants: Gulf South Pipeline Company, LP.

Description: Gulf South Pipeline Company, LP submits tariff filing per 154.204: HK 37731 to Texla 39471 Capacity Release Negotiated Rate Agreement Filing to be effective 1/1/2012.

Filed Date: 1/3/12.

Accession Number: 20120103-5133.

Comments Due: 5 p.m. ET 1/17/12.

Docket Numbers: RP12-284-000.

Applicants: Gulf South Pipeline Company, LP.

Description: Gulf South Pipeline Company, LP submits tariff filing per 154.204: JW 34689 to QWest 34962 Capacity Release Negotiated Rate Agreement Filing to be effective 1/1/2012.

Filed Date: 1/3/12.

Accession Number: 20120103-5134.

Comments Due: 5 p.m. ET 1/17/12.

Docket Numbers: RP12-285-000.

Applicants: Gulf South Pipeline Company, LP.

Description: Gulf South Pipeline Company, LP submits tariff filing per 154.204: JW 34690 to QWest 34963 Capacity Release Negotiated Rate Agreement Filing to be effective 1/1/2012.

Filed Date: 1/3/12.

Accession Number: 20120103-5135.

Comments Due: 5 p.m. ET 1/17/12.

Docket Numbers: RP12-286-000.

Applicants: Gulf South Pipeline Company, LP.

Description: Gulf South Pipeline Company, LP submits tariff filing per 154.204: Questar 37657-12 Amendment to Negotiated Rate Agreement Filing to be effective 1/1/2012.

Filed Date: 1/3/12.

Accession Number: 20120103-5136.

Comments Due: 5 p.m. ET 1/17/12.

Docket Numbers: RP12-287-000.

Applicants: Gulf South Pipeline Company, LP.

Description: Gulf South Pipeline Company, LP submits tariff filing per 154.204: HK 37733 to Texla 39467 Capacity Release Negotiated Rate Agreement Filing to be effective 1/1/2012.

Filed Date: 1/3/12.

Accession Number: 20120103-5137.

Comments Due: 5 p.m. ET 1/17/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP12-128-002.

Applicants: Algonquin Gas Transmission, LLC.

Description: Algonquin Gas Transmission, LLC submits tariff filing per 154.203: Docket RP12-128-000 Compliance Filing to be effective 12/2/2011.

Filed Date: 1/3/12.

Accession Number: 20120103-5205.

Comments Due: 5 p.m. ET 1/17/12.

Any person desiring to protest in any of the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 4, 2012.
Nathaniel J. Davis, Sr.,
Deputy Secretary

[FR Doc. 2012-222 Filed 1-9-12; 8:45 am]

BILLING CODE 6717-01-P